DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 1, 2006, through June 30, 2006.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Bonnie and Paul Narducci on behalf of Jonathan Paul Narducci, Wallingford, Connecticut, Court of Federal Claims Number 06-0266V.

2. Susan Walmsley, Bay Shore, New York, Court of Federal Claims Number 06-0270V.

3. Kimberly and Norman Crawford on behalf of Nicholas Timothy Crawford, Porter, Texas, Court of Federal Claims Number 06-0278V.

4. John Alarcon, Boston, Massachusetts, Court of Federal Claims Number 06-0279V.

5. Catherine and Steven Jameson on behalf of Ronan Jameson, Whispering Pines, North Carolina, Court of Federal Claims Number 06-0281V.

6. Rosenie Clerveaux-Jean on behalf of Samuel Clerveaux-Jean, Coral Springs, Florida, Court of Federal Claims Number 06-0286V.

7. Leanor Sotelo and William Stewart on behalf of William Stewart-Solelo, Austin, Texas, Court of Federal Claims Number 06-0287V.

8. Karen and Paul McCarron on behalf of Katherine McCarron, Boston, Massachusetts, Court of Federal Claims Number 06-0291V.

9. Tanya and Robert Greer on behalf of Robert Greer, Jr., Ruth, Mississippi, Court of Federal Claims Number 06-0297V.

10. Kathleen Magee on behalf of Connor James Magee, Somers Point, New Jersey, Court of Federal Claims Number 06-0298V.

11. David Allen Wiemken on behalf of Sarah So Young Wiemken, APO, AP, XX, Court of Federal Claims Number 06-0301V.

12. Beth Daehler on behalf of Victoria Daehler, Belvidere, Illinois, Court of Federal Claims Number 06-0313V.

13. Janis and Edward Shiflett on behalf of Phillip Shiflett, Melbourne, Florida, Court of Federal Claims Number 06-0318V.

14. Rebecca Duplessis, Norfolk, Virginia, Court of Federal Claims Number 06-0331V.

15. Alicia White on behalf of Alexander Simmons, Atlanta, Georgia, Court of Federal Claims Number 06-0333V.

16. Jennifer Elrod on behalf of Dylan Elrod, Dallas, Texas, Court of Federal Claims Number 06-0349V.

17. Jennifer Elrod on behalf of Jordan Elrod, Dallas, Texas, Court of Federal Claims Number 06-0350V.

18. Angela Ramos and Reginald Fields on behalf of Grant Fields, Columbus, Ohio, Court of Federal Claims Number 06-0353V.

19. Annette and Matt Flynn on behalf of Liam Flynn, Kenosha, Wisconsin, Court of Federal Claims Number 06-0356V.

20. Eduardo Alvarez, Somers Point, New Jersey, Court of Federal Claims Number 06-0370V.

21. Francia and Peter Hirmiz on behalf of Jessica Hirmiz, Chicago, Illinois, Court of Federal Claims Number 06-0371V.

22. Michele Brock on behalf of Ashley Brock, Brunswick, Maine, Court of Federal Claims Number 06-0378V.

23. Jheanelle Walters on behalf of Senon Walters, King George, Virginia, Court of Federal Claims Number 06-0379V.

24. Jheanelle Walters on behalf of Dominic Walters, King George, Virginia, Court of Federal Claims Number 06-0380V.

25. Eileen and Michael Shanks on behalf of Jennifer Lynn Shanks, Baraboo, Wisconsin, Court of Federal Claims Number 06-0385V.

26. Tracey and Ray Baltera on behalf of Annabelle Baltera, Corona Del Mar, California, Court of Federal Claims Number 06-0388V.

27. Tracey and Ray Baltera on behalf of Summer Baltera, Corona Del Mar, California, Court of Federal Claims Number 06-0389V.

28. Tracey and Ray Baltera on behalf of Avalon Baltera, Corona Del Mar, California, Court of Federal Claims Number 06-0390V.

29. Roberta Born, Ashland, Oregon, Court of Federal Claims Number 06-0392V.

30. Ekaterina Katia and Forrest Bowman on behalf of Forrest George Bowman, Corvallis, Oregon, Court of Federal Claims Number 06-0394V.

31. Tim Calhoun on behalf of Nathaniel Powers Calhoun, Somers Point, New Jersey, Court of Federal Claims Number 06-0400V.

32. Tammy and Mark Davis on behalf of Jonathan Davis, Charleston, West Virginia, Court of Federal Claims Number 06-0403V.

33. Jennifer Ross, Pontiac, Michigan, Court of Federal Claims Number 06-0412V.

34. Susan Kang-Smith and Matthew Smith on behalf of Ryan Smith, Boston, Massachusetts, Court of Federal Claims Number 06-0415V.

35. Christina Lorences on behalf of Michael Lorences, Tampa, Florida, Court of Federal Claims Number 06-0419V.

36. Karla and Gregory Allsberry on behalf of Kent Allsberry, Lake Success, New York, Court of Federal Claims Number 06-0426V.

37. Amy Alexander, Cincinnati, Ohio, Court of Federal Claims Number 06-0428V.

38. Lorinda and Billy Roberts on behalf of Kaden Charlton Roberts, Cleveland, Tennessee, Court of Federal Claims Number 06-0429V.

39. Cynthia La Londe on behalf of Matthew La Londe, Boston, Massachusetts, Court of Federal Claims Number 06-0435V.

40. Colleen and James Kearney on behalf of Patrick Kearney, Boston, Massachusetts, Court of Federal Claims Number 06-0438V.

41. Vickie Lindstrom on behalf of Rebecca Skelton, Fayetteville, Arkansas, Court of Federal Claims Number 06-0440V.

42. Camille Dreiling, Salina, Kansas, Court of Federal Claims Number 06-0441V.

43. Sharon and Patric Salvo on behalf of Elizabeth Salvo, Lake Success, New York, Court of Federal Claims Number 06-0445V.

44. Tara Thompson on behalf of Xyra Farrah Rhodes, Petersburg, Virginia, Court of Federal Claims Number 06-0447V.

45. Gwendolyn Laird, Kansas City, Missouri, Court of Federal Claims Number 06-0452V.

46. Melissa and James Troutman on behalf of Brock James Troutman, Minneapolis, Minnesota, Court of Federal Claims Number 06-0455V.

47. Carol Sprague, Newton, New Jersey, Court of Federal Claims Number 06-0458V.

48. Mari and Tsuyoshi Miyake on behalf of Agata Miyake, Charlottesville, Virginia, Court of Federal Claims Number 06-0459V.

49. Robin and Henry Fischer on behalf of Dennis Fischer, Nanuet, New York, Court of Federal Claims Number 06-0460V.

50. Jodi Pinto-Fields and Christopher Fields on behalf of Ella R. Fields, Deceased, Wind Gap, Pennsylvania, Court of Federal Claims Number 06-0461V.

51. Jennifer and Mark Inman on behalf of Mary Elise Inman, Atlanta, Georgia, Court of Federal Claims Number 06-0462V.

52. David Bailey, Dallas, Texas, Court of Federal Claims Number 06-0464V.

53. Phillip Brooks, Bryson City, North Carolina, Court of Federal Claims Number 06-0468V.

54. Teresa and Anthony Fresco on behalf of Daniel Fresco, West Orange, New Jersey, Court of Federal Claims Number 06-0469V.

55. Michelle and Peter Gioe on behalf of Michael Gioe, Lorton, Virginia, Court of Federal Claims Number 06-0470V.

56. Michelle and Peter Gioe on behalf of Cecilia Francis Gioe, Lorton, Virginia, Court of Federal Claims Number 06-0474V.

57. Karen Barnhart on behalf of Jack Barnhart, Dearborn, Michigan, Court of Federal Claims Number 06-0475V.

58. Ashley Whitener, El Paso, Texas, Court of Federal Claims Number 06-0477V.

59. Albina Silveri, Altoona, Pennsylvania, Court of Federal Claims Number 06-0478V.

60. Cindy Marks and David Martin Wittels on behalf of Tyler Luke Wittels, Lake Success, New York, Court of Federal Claims Number 06-0481V.

61. Angelena and Joseph Gonzales on behalf of Tomas Russell Gonzales, Deceased, Shiprock, New Mexico, Court of Federal Claims Number 06-0487V.

62. Jimmie Lee Lazenberry, Jacksonville, Florida, Court of Federal Claims Number 06-0493V.

Dated: September 6, 2006.
Elizabeth M. Duke,
Administrator.

[FR Doc. E6-15287 Filed 9-14-06; 8:45 am]

BILLING CODE 4165-15-P